DEPARTMENT OF COMMERCE

National Oceanic and Atmospheric Administration

Agency Information Collection Activities; Submission to the Office of Management and Budget (OMB) for Review and Approval; Comment Request; International Dolphin Conservation Program

AGENCY: National Oceanic & Atmospheric Administration (NOAA), Commerce.

ACTION: Notice of information collection, request for comment.

SUMMARY: The Department of Commerce, in accordance with the Paperwork Reduction Act of 1995 (PRA), invites the general public and other Federal agencies to comment on proposed and continuing information collections, which helps us assess the impact of our information collection requirements and minimize the public's reporting burden. The purpose of this notice is to allow for 60 days of public comment preceding submission of the collection to OMB.

DATES: To ensure consideration, comments regarding this proposed information collection must be received on or before October 31, 2022.

ADDRESSES: Interested persons are invited to submit written comments to Adrienne Thomas, NOAA PRA Officer, at Adrienne.thomas@noaa.gov. Please reference OMB Control Number 0648-0387 in the subject line of your comments. Do not submit Confidential Business Information or otherwise sensitive or protected information.

FOR FURTHER INFORMATION CONTACT: Requests for additional information or specific questions related to collection activities should be directed to Chris Fanning, Fishery Policy Analyst, NOAA/National Marine Fisheries Service, 501 West Ocean Blvd., #4200, Long Beach, CA 90802, (562) 980-4198, Chris.Fanning@noaa.gov.

SUPPLEMENTARY INFORMATION:

I. Abstract

This request is for extension, without change, of a current information collection. The purpose of this collection of information is to comply with the requirements of the International Dolphin Conservation Program Act (IDCPA), 16 U.S.C. 1414. The IDCPA amended the Dolphin Protection Consumer Information Act (DPCIA), 16 U.S.C. 1385. The IDCPA and the DPCIA authorize the Secretary of Commerce to promulgate regulations that implement the dolphin-safe labeling standard in the United States (U.S.) by the collection of documents on the dolphin-safe status of tuna import shipments and domestic tuna product processing; by allowing documentary requests to allow for an effective tracking and verification program; and by verifying that tuna was not harvested by a nation under embargo or otherwise prohibited from exporting tuna to the United States.

This collection of information also complies with the requirements of the Tuna Conventions Act (TCA), 16 U.S.C. 951 et seq., which was amended by the “Illegal, Unreported, and Unregulated Fishing Enforcement Act of 2015” (Pub. L. 114-81). The TCA gives the Secretary of Commerce the authority to enact regulations to fulfill the requirement that all member States maintain and provide to the Inter-American Tropical Tuna Commission (IATTC) a list of vessels flagged by the member State and (1) authorized by the member State to be used for fishing for tuna and tuna-like species in the IATTC Convention Area, or (2) authorized by other States to be used for fishing for tuna and tuna-like species in their areas of jurisdiction in the IATTC Area, and to maintain and provide for each vessel on that list certain information on its characteristics and its owner and operator. The TCA also gives the Secretary of Commerce authority to implement fishery management resolutions of the IATTC.

The International Dolphin Conservation Program Act (Act) allows entry of yellowfin tuna into the United States (U.S.), under specific conditions, from nations in the International Dolphin Conservation Program that would otherwise be under embargo. The Act also allows U.S. fishing vessels to participate in the yellowfin tuna fishery in the eastern tropical Pacific Ocean (ETP) on terms equivalent with the vessels of other nations. NOAA collects information to allow tracking and verification of “dolphin-safe” and “non-dolphin safe” tuna products from catch through the U.S. market.

The information is used by NMFS, the United States Coast Guard (USGC), and the IATTC to monitor the size and composition of the vessel fleets in the IATTC Convention Area for compliance and scientific-related purposes. Knowing such information as the number of vessels, the details of the vessels and their ownership, and the types of gear employed enables effective monitoring of vessel activity for enforcement and assessment purposes. NMFS also uses this information for the purposes of management the U.S. purse seine fleet capacity in the IATTC Convention Area.

This collection includes permit applications, notifications, tuna tracking forms, reports, and certifications that provide information on vessel characteristics and operations in the ETP, the origin of tuna and tuna products, chain of custody recordkeeping requirements and certain other information necessary to implement the Act.

II. Method of Collection

Information will be collected via online application, email notifications and reporting, and an option for paper format permit applications.

III. Data

OMB Control Number: 0648-0387.

Form Number(s): None.

Type of Review: Regular submission (extension of a currently approved information collection).

Affected Public: Business or other for-profit organizations; individuals or households.

Estimated Number of Respondents: 518.

Estimated Time per Response: 35 minutes for a vessel permit application; 10 minutes for an operator permit application, a notification of vessel arrival or departure, a change in permit operator, a notification of a net modification or a monthly tuna storage removal report; 30 minutes for a request for a waiver to transit the ETP without a permit (and subsequent radio reporting) or for a special report documenting the origin of tuna (if requested by the NOAA Administrator); 10 hours for an experimental fishing operation waiver; 15 minutes for a request for a Dolphin Mortality Limit; 35 minutes for written notification to request active status for a small tuna purse seine vessel; 5 minutes for written notification to request inactive status for a small tuna purse seine vessel or for written notification of the intent to transfer a tuna purse seine vessel to foreign registry and flag; 60 minutes for a tuna tracking form or for a monthly tuna receiving report; 30 minutes for IMO application or exemption request; 30 minutes for chain of custody recordkeeping reporting requirement.

Estimated Total Annual Burden Hours: 277.

Estimated Total Annual Cost to Public: $518.

Respondent's Obligation: Mandatory.

Legal Authority: International Dolphin Conservation Program Act (IDCPA), 16 U.S.C. 1414; The IDCPA amended the Dolphin Protection Consumer Information Act (DPCIA), 16 U.S.C. 1385; and the Tuna Conventions Act (TCA), 16 U.S.C. 951 et seq.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-18837 Filed 8-30-22; 8:45 am]

BILLING CODE 3510-22-P